DEPARTMENT OF EDUCATION

[Docket No.: ED-2023-SCC-0185]

Agency Information Collection Activities; Submission to the Office of Management and Budget for Review and Approval; Comment Request; Regional Educational Laboratory (REL) Southwest Write To Succeed Evaluation

AGENCY: Institute of Education Sciences (IES), Department of Education (ED).

ACTION: Notice.

SUMMARY: In accordance with the Paperwork Reduction Act (PRA) of 1995, the Department is proposing a new information collection request (ICR).

DATES: Interested persons are invited to submit comments on or before February 16, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Christopher Boccanfuso, 202-219-0373.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Regional Educational Laboratory (REL) Southwest Write to Succeed Evaluation.

OMB Control Number: 1850-NEW.

Type of Review: A new ICR.

Respondents/Affected Public: State, Local, and Tribal Governments.

Total Estimated Number of Annual Responses: 2,453.

Total Estimated Number of Annual Burden Hours: 366.

Abstract: The current authorization for the Regional Educational Laboratories (REL) program is under the Education Sciences Reform Act of 2002, Part D, Section 174, (20 U.S.C. 9564), administered by the Department of Education, Institute of Education Sciences (IES), National Center for Education Evaluation and Regional Assistance (NCEE). The central mission and primary function of the RELs is to support applied research and provide technical assistance to state and local education agencies within their region (ESRA, Part D, section 174[f]). The REL program's goal is to partner with educators and policymakers to conduct work that is change-oriented and supports meaningful local, regional, or state decisions about education policies, programs, and practices to improve outcomes for students.

Supporting equitable educational opportunities and achievement for English learner students in New Mexico is a high priority for the New Mexico Public Education Department (NMPED, n.d., 2021). In light of analysis showing English learner students in the state have lower rates of English language arts (ELA) proficiency (Arellano et al., 2018), plus legal rulings in the state that English learner students' rights to a sufficient public education have been violated (NMPED, 2022a), NMPED created a strategic plan that includes supporting the whole child through literacy instruction that is culturally and linguistically responsive (NMPED, 2022b). Improving English learner students' English proficiency and the literacy skills of all students is a top priority of NMPED and the district and regional partners of REL Southwest. To address this problem, REL Southwest is implementing, refining, and building evidence for the Write to Succeed professional learning program. The core focus of the Write to Succeed program is scaffolded writing instruction that can support all students but with embedded opportunities to meet the language needs to English learner students. Prior to this study, the program will be further enhanced with supports for teacher collaboration and culturally and linguistically relevant instructional routines, as prior work with New Mexico partners has indicated these are two elements in need of further support.

This study is designed to measure the efficacy and implementation of the Write to Succeed. The evaluation team plans to conduct an independent evaluation using a school-level, cluster randomized control trial design to assess the program's impact on teachers' practices and beliefs and students' language and literacy outcomes. The evaluation will also assess the implementation of the program and how it may be effectively scaled. The evaluation will take place in 40 schools across an estimated 10 districts in New Mexico and will focus on teachers and students in Grade 4-8. The evaluation will produce a report and presentations to study participants, practitioners, policymakers, and researchers, and infographics and blog posts for a wider audience of educators and policymakers. These will be designed to inform district and school leaders and teachers about scaffolded writing practices that could be beneficial for English learner students and all students.

Dated: January 10, 2024.
Juliana Pearson,
PRA Coordinator, Strategic Collections and Clearance Governance and Strategy Division Office of Chief Data Officer Office of Planning, Evaluation and Policy Development.

[FR Doc. 2024-00726 Filed 1-16-24; 8:45 am]

BILLING CODE 4000-01-P